DEPARTMENT OF HEALTH AND HUMAN SERVICES

Agency for Toxic Substances and Disease Registry

Statement of Organization, Functions, and Delegations of Authority

Part J (Agency for Toxic Substances and Disease Registry) of the Statement of Organization, Functions, and Delegations of Authority of the Department of Health and Human Services (50 FR 25129-25130, dated June 17, 1985, as amended most recently at 80 FR 61424, dated October 13, 2015) is amended to reflect the Order of Succession for the Agency for Toxic Substances and Disease Registry.

Section J-C, Order of Succession:

Delete in its entirety the Section C-C, Order of Succession, and insert the following:

During the absence or disability of the Administrator, Agency for Toxic Substances and Disease Registry (ATSDR), or in the event of a vacancy in that office, the first official listed below who is available shall act as Administrator, except during a planned period of absence, the Administrator may specify a different order of succession:

1. Principal Deputy Administrator, ATSDR

2. Assistant Administrator, ATSDR

3. Deputy Director for Noncommunicable Diseases, Injury and Environmental Health

4. Director, Office of Public Health Preparedness and Response

5. Director, National Institute for Occupational Safety and Health

Sherri A. Berger,
Chief Operating Officer, Centers for Disease Control and Prevention.

[FR Doc. 2017-19024 Filed 9-7-17; 8:45 am]

BILLING CODE 4160-18-P